FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Eggi's Express Shipping, 1004 Halsey Street, Brooklyn, NY 11207, Egbert Sylvester Jeffers, Sole Proprietor.

Topocean Consolidation Service (New York), Inc., 181 S. Franklin Ave., #204, Valley Stream, NY 11581. Officer: Robert Wang, President/CEO/CFO (Qualifying Individual).

Valu Freight Consolidators, Inc., 1325 NW 21st Street, Miami, FL 33142. Officers: Mildred Evette Ferguson, Vice President (Qualifying Individual), Barry Ferguson, President.

CNR International, Inc., 500 E. Carson Plaza Drive, #2165, Carson, CA 90746. Officers: Sukyol (Chris) Oh, Vice President (Qualifying Individual), Ray Hyun Sung, President.

Non-Vessel Operating Common Carrier and Ocean Freight Forwarder Transportation Intermediary Applicants

Payson International Freight, Inc., 145-52 157th Street, Jamaica, NY 11434. Officer: Shlomo Greenberg, President (Qualifying Individual).

Stern, Rogers & Co., Inc., 145-40 157th Street, Jamaica, NY 11434. Officer: Orhan Konur, President (Qualifying Individual).

Saltair Projects, LLC, 18900 8th So., Suite 1100, Seatac, WA 98148. Officer: Gregory Carl Aden, Owner (Qualifying Individual).

Dated: June 6, 2003.
Bryant L. VanBrakle,
Secretary.

[FR Doc. 03-14809 Filed 6-10-03; 8:45 am]

BILLING CODE 6730-01-P